DEPARTMENT OF THE TREASURY

Internal Revenue Service

26 CFR Part 1

[REG-117969-00 and REG-125628-01]

RIN 1545-BD76 and RIN 1545-BA65

Statutory Mergers and Consolidations; Revision of Income Tax Regulations Under Sections 358, 367, 884, and 6038B Dealing With Statutory Mergers or Consolidations Under Section 368(a)(1)(A) Involving One or More Foreign Corporations; Hearing Cancellation

AGENCY: Internal Revenue Service (IRS), Treasury.

ACTION: Cancellation of notice of public hearing on proposed rulemaking.

SUMMARY: This document provides notice of cancellation of a public hearing on proposed rulemaking that affects corporations engaging in mergers and consolidations and their shareholders under sections 358, 368(a)(1)(A), 367 and 884 of the Internal Revenue Code.

DATES: The public hearing originally scheduled for Thursday, May 19, 2005, at 10 a.m., is cancelled.

FOR FURTHER INFORMATION CONTACT: Treena Garrett of the Publications and Regulations Branch, Associate Chief Counsel (Procedures and Administration) (202) 622-7180 (not a toll-free number).

SUPPLEMENTARY INFORMATION: The notices of proposed rulemaking and notices of public hearing that appeared in the Federal Register on Wednesday, January 5, 2005 (70 FR 746 and 70 FR 749), announced that a public hearing was scheduled for Thursday, May 19, 2005, at 10 a.m. in the IRS Auditorium, Internal Revenue Service Building, 1111 Constitution Avenue, NW., Washington, DC. The subject of the public hearing is proposed regulations under sections 358, 368(a)(1)(A), 367, and 884 of the Internal Revenue Code. The public comment period for these proposed regulations expired on Thursday, April 28, 2005. Outlines of oral comments were due on Thursday, April 28, 2005.

The notice of proposed rulemaking and notice of public hearing instructed those interested in testifying at the public hearing to submit outlines of the topics to be addressed. As of Friday, May 6, 2005, no one has requested to speak. Therefore, the public hearing scheduled for Thursday, May 19, 2005, is cancelled.

Cynthia E. Grigsby,
Acting Chief, Publications and Regulations Branch, Legal Processing Division, Associate Chief Counsel (Procedure and Administration).

[FR Doc. 05-9612 Filed 5-16-05; 8:45 am]

BILLING CODE 4830-01-P